DEPARTMENT OF JUSTICE

Notice of Lodging of Proposed Consent Decree Under the Clean Water Act

On January 17, 2024, the Department of Justice lodged a proposed Consent Decree with the United States District Court for the Northern District of California in the lawsuit entitled United States, the State of Illinois, and Alabama Department of Environmental Management v. Swinerton Builders, Civil Action No. 3:24-cv-00274.

In their complaint, the United States and the States of Illinois and Alabama allege that Swinerton Builders (Swinerton) violated the Clean Water Act during construction of solar energy facilities in Alabama, Idaho, and Illinois. The United States and the States allege that Swinerton discharged sediment in stormwater from the Alabama and Idaho sites to nearby waters without authorization from a discharge permit, and violated the conditions and limitations in Swinerton's discharge permits at the Alabama and Illinois sites. The proposed Consent Decree requires Swinerton to implement significant mitigation actions to offset the environmental harms of its discharges in Alabama and Idaho. The Consent Decree also requires Swinerton to pay a civil penalty of $2,300,000 to the plaintiffs, with $1,614,600 to the United States, $144,900 to the State of Illinois, and $540,500 to Alabama.

The publication of this notice opens a period for public comment on the Consent Decree. Comments should be addressed to the Assistant Attorney General, Environment and Natural Resources Division, and should refer to United States, the State of Illinois, and Alabama Department of Environmental Management v. Swinerton Builders, D.J. Ref. No. 90-5-1-1-12642. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ-ENRD, P.O. Box 7611, Washington, DC 20044-7611.

Please enclose a check or money order for $11.50 (25 cents per page reproduction cost) payable to the United States Treasury. For a paper copy exclusive of exhibits and signature pages, the cost is $7.25.

Kathryn C. Macdonald,
Assistant Section Chief, Environmental Enforcement Section, Environment and Natural Resources Division.

[FR Doc. 2024-01453 Filed 1-24-24; 8:45 am]

BILLING CODE 4410-15-P